DEPARTMENT OF TRANSPORTATION

Research and Special Programs Administration

International Standards on the Transport of Dangerous Goods; Public Meeting

AGENCY: Research and Special Programs Administration (RSPA), Department of Transportation.

ACTION: Notice of public meetings.

SUMMARY: This notice is to advise interested persons that RSPA will conduct public meetings in preparation for and to report the results of the twenty-second session of the United Nation's Sub-Committee of Experts on the Transport of Dangerous Goods (UNSCOE) to be held December 2-6, 2002 in Geneva, Switzerland.

DATES: November 20, 2002, 9:30 a.m.-12:30 p.m., Room 6244-6248. December 18, 2002, 9:30 a.m.-12:30 p.m., Room 6244-6248.

ADDRESSES: Both meetings will be held at DOT Headquarters, Nassif Building, 400 Seventh Street SW., Washington, DC 20590.

FOR FURTHER INFORMATION CONTACT: Bob Richard, International Standards Coordinator, or Duane Pfund, Assistant International Standards Coordinator, Office of Hazardous Materials Safety, Department of Transportation, Washington, DC 20590; (202) 366-0656.

SUPPLEMENTARY INFORMATION: The primary purpose of the first meeting will be to prepare for the twenty-second session of the UNSCOE and to discuss draft U.S. positions on UNSCOE proposals. The primary purpose of the second meeting will be to provide a briefing on the outcome of the UNSCOE session. Topics to be covered during the public meetings include (1) Requirements for the transport of solids in bulk containers including portable tanks, (2) Harmonized requirements for compressed gas cylinders, (3) Classification of individual substances, (4) Requirements for packagings used to transport hazardous materials including a U.S. proposal to require a repetitive shock test, (5) Requirements for infectious substances and clinical waste, (6) Security of dangerous goods in transport. The public is invited to attend without prior notification. Due to the heightened security measures participants are encouraged to arrive early to allow time for security checks necessary to obtain access to the building.

Documents

Copies of documents for the UNSCOE meeting and the meeting agenda may be obtained by downloading them from the United Nations Transport Division Web site at: http://www.unece.org/trans/main/dgdb/dgsubc/c32002.html. This site may also be accessed through RSPA's Hazardous Materials Safety Homepage at http://hazmat.dot.gov/instandards.htm. RSPA's site provides additional information regarding the UNSCOE and related matters such as a summary of decisions taken at the twenty-first session of the UNSCOE.

Frits Wybenga
Deputy Associate Administrator for Hazardous Materials Safety.

[FR Doc. 02-26823 Filed 10-21-02; 8:45 am]

BILLING CODE 4910-60-M